DEPARTMENT OF THE INTERIOR

Bureau of Land Management

[NV-930-1430-ET; NVN-83210; 9-08807; TAS:14x1109]

Public Land Order No. 7731; Withdrawal of Public Lands for Gold Point and Ione Townsites; Nevada

AGENCY: Bureau of Land Management, Interior.

ACTION: Public Land Order No. 7731, Withdrawal of Public Lands for Gold Point and Ione Townsites; Nevada.

SUMMARY: This order withdraws approximately 672 acres of public lands from location and entry under the United States mining laws for a period of 5 years to protect historic and cultural resources within the Gold Point and Ione Townsites pending special legislation that would resolve land ownership conflicts.

DATES: Effective Date: April 10, 2009.

FOR FURTHER INFORMATION CONTACT: Jacqueline Gratton, Bureau of Land Management, Nevada State Office, P.O. Box 12000, 1340 Financial Boulevard, Reno, Nevada 89520, 775-861-6532.

SUPPLEMENTARY INFORMATION: The withdrawal will preserve the historic and cultural resources within the towns of Gold Point and Ione in aid of legislation.

Order

By virtue of the authority vested in the Secretary of the Interior by Section 204 of the Federal Land Policy and Management Act of 1976, 43 U.S.C. 1714 (2000), it is ordered as follows:

1. Subject to valid existing rights, the following described public lands are hereby withdrawn from settlement, sale, location, or entry under the United States mining laws:

Mount Diablo Meridian

T. 7 S., R. 41½ E.,

Sec. 3, SE¼NW¼, N½NE¼SW¼, SW¼NE¼SW¼, W½SW¼, W½SE¼SW¼, SE¼SE¼SW¼, and SW¼SW¼SE¼;

Sec. 10, N½NW¼NW¼NE¼, N½NE¼NE¼NW¼, NW¼NE¼NW¼, and N½NW¼NW¼.

The area described contains 230 acres in Esmeralda County.

T. 13 N., R. 39 E.,

Sec. 32, E½SE¼SE¼;

Sec. 33, NE¼SE¼ and S½;

Sec. 34, lots 9 to 26, inclusive, and S½NW¼.

The area described contains 442.02 acres in Nye County.

2. The withdrawal made by this order does not alter the applicability of those public land laws governing the use of lands under lease, license, or permit or governing the disposal of their mineral or vegetative resources other than under the mining laws.

3. This withdrawal will expire 5 years from the effective date of this order unless, as a result of a review conducted before the expiration date pursuant to Section 204(f) of the Federal Land Policy and Management Act of 1976, 43 U.S.C. 1714(f) (2000), the Secretary determines that the withdrawal shall be extended.

Dated: April 10, 2009.
Ken Salazar,
Secretary of the Interior.

[FR Doc. E9-8604 Filed 4-10-09; 4:15 pm]

BILLING CODE 4310-HC-P